DEPARTMENT OF THE TREASURY

Internal Revenue Service

Proposed Extension of Information Collection Request Submitted for Public Comment; Comment Request on Burden Related to U.S. Income Tax Return Forms for Individual Taxpayers

AGENCY: Internal Revenue Service (IRS), Treasury.

ACTION: Notice and request for comments.

SUMMARY: The Internal Revenue Service, as part of its continuing effort to reduce paperwork and respondent burden, invites the public and other Federal agencies to take this opportunity to comment on proposed and/or continuing information collections, as required by the Paperwork Reduction Act of 1995. Currently, the IRS is soliciting comments concerning the burden associated with the U.S. Income Tax Return Forms for Individual Taxpayers.

DATES: Written comments should be received on or before November 28, 2022 to be assured of consideration.

ADDRESSES: Written comments and recommendations for the proposed information collection should be sent within 60 days of publication of this notice to pra.comments@irs.gov. Please include, “OMB Number: 1545-0074—Public Comment Request Notice” in the Subject line. Requests for additional information or copies of this collection can be directed to R. Joseph Durbala, at RJoseph.Durbala@irs.gov.

SUPPLEMENTARY INFORMATION:

Title: U.S. Income Tax Return for Individual Taxpayers.

OMB Control Number: 1545-0074.

Form Number: Form 1040 and affiliated return forms.

Abstract: IRC sections 6011 & 6012 of the Internal Revenue Code require individuals to prepare and file income tax returns annually. These forms and related schedules are used by individuals to report their income subject to tax and compute their correct tax liability. This information collection request (ICR) covers the actual reporting burden associated with preparing and submitting the prescribed return forms, by individuals required to file Form 1040 and any of its' affiliated forms as explained in the attached table.

Current Actions: There have been changes in regulatory guidance related to various forms approved under this approval package during the past year. There have been additions and removals of forms included in this approval package. It is anticipated that these changes will have an impact on the overall burden and cost estimates requested for this approval package, however these estimates were not finalized at the time of release of this notice. These estimated figures are expected to be available by the release of the 30-day comment period. This approval package is being submitted for renewal purposes only.

Type of Review: Revision of a currently approved collection.

Affected Public: Individuals or Households, Farms.

Preliminary Estimated Number of Respondents: 172,556,400.

Preliminary Estimated Time per Respondent (Hours): 12.52.

Preliminary Estimated Total Annual Time (Hours): 2,160,119,237.

Preliminary Estimated Total Annual Monetized Time ($): $37,599,575,472.

Preliminary Estimated Total Out-of-Pocket Costs ($): $41,925,087,675.

Preliminary Estimated Total Monetized Burden ($): $79,524,663,147.

Note: Total Monetized Burden = Total Out-of-Pocket Costs + Total Annual Monetized Time.

The following paragraph applies to all the collections of information covered by this notice:

An agency may not conduct or sponsor, and a person is not required to respond to, a collection of information unless the collection of information displays a valid OMB control number.

Books or records relating to a collection of information must be retained if their contents may become material in the administration of any internal revenue law. Generally, tax returns and tax return information are confidential, as required by 26 U.S.C. 6103.

Desired Focus of Comments: The Internal Revenue Service (IRS) is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including using appropriate automated, electronic, mechanical, or other technological collection techniques or other forms of information technology, e.g., by permitting electronic submissions of responses.

Comments submitted in response to this notice will be summarized and/or included in the ICR for OMB approval of the extension of the information collection; they will also become a matter of public record.

Approved: September 22, 2022.
Molly J. Stasko,
Senior Tax Analyst.

Individual Tax Forms
Type | Form No. | Form name | URL | Type | Form No. | Form name | URL
Form | Form 1040 | U.S. Individual Tax Return | https://www.irs.gov/pub/irs-pdf/f1040.pdf. | Form and Instruction | Form 8396 | Mortgage Interest Credit | https://www.irs.gov/pub/irs-pdf/f8396.pdf.
Instruction |  |  | https://www.irs.gov/pub/irs-pdf/i1040gi.pdf. | Form and Instruction | Form 8453 | U.S. Individual Income Tax Declaration for an IRS e-file Return | https://www.irs.gov/pub/irs-pdf/f8453.pdf.
Form | Form*1040 (SP) | U.S Individual Tax Return in Spanish | https://www.irs.gov/pub/irs-pdf/f1040sp.pdf. | Form and Instruction | Form 8453(SP) | U.S. Individual Income Tax Declaration for an IRS e-file Return (Spanish version) | https://www.irs.gov/pub/irs-pdf/f8453sp.pdf.
Instruction |  |  | https://www.irs.gov/pub/irs-pdf/i1040sp.pdf. | Form | Form 8582 | Passive Activity Loss Limitation | https://www.irs.gov/pub/irs-pdf/f8582.pdf.
Form | Form 1040 Schedule 1 | Form 1040 Schedule 1 Additional Income and Adjustments to Income | https://www.irs.gov/pub/irs-pdf/f1040s1.pdf. | Instruction |  |  | https://www.irs.gov/pub/irs-pdf/i8582.pdf.
Form | Form 1040 Schedule 1 (SP) | Additional Income and Adjustments to Income in Spanish | https://www.irs.gov/pub/irs-pdf/f1040s1s.pdf. | Form | Form 8582-CR | Passive Activity Credit Limitations | https://www.irs.gov/pub/irs-pdf/f8582cr.pdf.
Form | Form 1040 Schedule 2 | Form 1040 Schedule 2 Tax | https://www.irs.gov/pub/irs-pdf/f1040s2.pdf. | Instruction |  |  | https://www.irs.gov/pub/irs-pdf/i8582cr.pdf.
Form | Form 1040 Schedule 2 (SP) | Additional Taxes in Spanish | https://www.irs.gov/pub/irs-pdf/f1040s2s.pdf. | Form | Form 8586 | Low-Income Housing Credit | https://www.irs.gov/pub/irs-pdf/f8586.pdf.
Form | Form 1040 Schedule 3 | Form 1040 Schedule 3 Nonrefundable Credits | https://www.irs.gov/pub/irs-pdf/f1040s3.pdf. | Form | Form 8594 | Asset Acquisition Statement Under Section 1060 | https://www.irs.gov/pub/irs-pdf/f8594.pdf.
Form | Form 1040 Schedule 3 (SP) | Additional Credits and Payments in Spanish | https://www.irs.gov/pub/irs-pdf/f1040s3s.pdf. | Instruction |  |  | https://www.irs.gov/pub/irs-pdf/i8594.pdf.
Form | Form 1040-C | U.S. Departing Alien Income Tax Return | https://www.irs.gov/pub/irs-pdf/f1040c.pdf. | Form | Form 8606 | Nondeductible IRAs | https://www.irs.gov/pub/irs-pdf/f8606.pdf.
Instruction |  |  | https://www.irs.gov/pub/irs-pdf/i1040c.pdf. | Instruction |  |  | https://www.irs.gov/pub/irs-pdf/i8606.pdf.
Form | Form 1040 X | Amended U.S. Individual Income Tax Return | https://www.irs.gov/pub/irs-pdf/f1040x.pdf. | Form | Form 8609-A | Annual Statement for Low-Income Housing Credit | https://www.irs.gov/pub/irs-pdf/f8609a.pdf.
Instruction |  |  | https://www.irs.gov/pub/irs-pdf/i1040x.pdf. | Instruction |  |  | https://www.irs.gov/pub/irs-pdf/i8609a.pdf.
Form | Form 1040 NR | U.S. Nonresident Alien Income Tax Return | https://www.irs.gov/pub/irs-pdf/f1040nr.pdf. | Form and Instruction | Form 8611 | Recapture of Low-Income Housing Credit | https://www.irs.gov/pub/irs-pdf/f8611.pdf.
Instruction |  |  | https://www.irs.gov/pub/irs-pdf/i1040nr.pdf. | Form | Form 8615 | Tax for Certain Children Who Have Investment Income of More than $1,800 | https://www.irs.gov/pub/irs-pdf/f8615.pdf.
Form | Form 1040 NR(SP) | U.S. Nonresident Alien Income Tax Return (Spanish Version) | https://www.irs.gov/pub/irs-pdf/f1040nrs.pdf. | Instruction |  |  | https://www.irs.gov/pub/irs-pdf/i8615.pdf.
Instruction |  |  | https://www.irs.gov/pub/irs-pdf/i1040nrs.pdf. | Form | Form 8621 | Return by a Shareholder of a Passive Foreign Investment Company or Qualified Electing Fund | https://www.irs.gov/pub/irs-pdf/f8621.pdf.
Form | 1040 NR (Schedule NEC) | Tax on Income Not Effectively Connected with a U.S. Trade or Business | https://www.irs.gov/pub/irs-pdf/f1040nrn.pdf. | Instruction |  |  | https://www.irs.gov/pub/irs-pdf/i8621.pdf.
Form | 1040 NR (Schedule NEC) (SP) | Tax on Income Not Effectively Connected with a U.S. Trade or Business (Spanish Version) | https://www.irs.gov/pub/irs-pdf/f1040nec.pdf. | Form | Form 8621-A | Return by a Shareholder Making Certain Late Elections to End Treatment as a Passive Foreign Investment Company | https://www.irs.gov/pub/irs-pdf/f8621a.pdf.
Form | 1040 NR (Schedule A) | Itemized Deductions | https://www.irs.gov/pub/irs-pdf/f1040nra.pdf. | Instruction |  |  | https://www.irs.gov/pub/irs-pdf/i8621a.pdf.
Form | 1040 NR (Schedule A) (SP) | Itemized Deductions (Spanish Version) | https://www.irs.gov/pub/irs-pdf/f1040nas.pdf. | Form and Instruction | Form 8689 | Allocation of Individual Income Tax to the Virgin Islands | https://www.irs.gov/pub/irs-pdf/f8689.pdf.
Form | 1040 NR (Schedule OI) | Other Information | https://www.irs.gov/pub/irs-pdf/f1040nro.pdf. | Form | Form 8697 | Interest Computations Under the Look-Back Method for Completed Long-Term Contracts | https://www.irs.gov/pub/irs-pdf/f8697.pdf.
Form | 1040 NR (Schedule OI) (SP) | Other Information (Spanish Version) | https://www.irs.gov/pub/irs-pdf/f1040ois.pdf. | Instruction |  |  | https://www.irs.gov/pub/irs-pdf/i8697.pdf.
Form | Form 1040-PR | Planilla para la Declaracion de la Contribucion Federal sobre el Trabajo por Cuenta Propia (Incluyendo el Credito Tributario Adicional por Hijos para Residentes Bona Fide de Puerto Rico) | https://www.irs.gov/pub/irs-pdf/f1040pr.pdf. | Form | Form 8801 | Credit for Prior Year Minimum Tax-Individuals, Estates, and Trusts | https://www.irs.gov/pub/irs-pdf/f8801.pdf.
Instruction |  | Instrucciones para el Formulario 1040-PR, Planilla Para La Declaracion De La Contribucion Federal Sobre El Trabajo Por Cuenta Propia—Puerto Rico | https://www.irs.gov/pub/irs-pdf/i1040pr.pdf. | Instruction |  |  | https://www.irs.gov/pub/irs-pdf/i8801.pdf.
Form | Form 1040-SR | U.S. Income Tax Return for Seniors | https://www.irs.gov/pub/irs-pdf/f1040s.pdf. | Form and Instruction | Form 8814 | Parents' Election to Report Child's Interest and Dividends | https://www.irs.gov/pub/irs-pdf/f8814.pdf.
Form | Form 1040-SR (SP) | Form 1040-SR (SP) U.S. Income Tax Return for Seniors in Spanish | https://www.irs.gov/pub/irs-pdf/f1040srs.pdf. | Form and Instruction | Form 8815 | Exclusion of Interest from Series EE and I U.S. Savings Bonds Issued After 1989 | https://www.irs.gov/pub/irs-pdf/f8815.pdf.
Form | Form 1040-SS | U.S. Self-Employment Tax Return (Including the Additional Child Tax Credit for Bona Fide Residents of Puerto Rico) | https://www.irs.gov/pub/irs-pdf/f1040ss.pdf. | Form and Instruction | Form 8818 | Optional Form to Record Redemption of Series EE and I U.S. Savings Bonds Issued After 1989 | https://www.irs.gov/pub/irs-pdf/f8818.pdf.
Instruction |  | Instructions for Form 1040-SS, U.S. Self-Employment Tax Return (Including the Additional Child Tax Credit for Bona Fide Residents of Puerto Rico) | https://www.irs.gov/pub/irs-pdf/i1040ss.pdf. | Form and Instruction | Form 8820 | Orphan Drug Credit | https://www.irs.gov/pub/irs-pdf/f8820.pdf.
Form | Schedule A (1040) | Itemized Deductions | https://www.irs.gov/pub/irs-pdf/f1040sa.pdf. | Form | Form 8824 | Like-Kind Exchanges | https://www.irs.gov/pub/irs-pdf/f8824.pdf.
Instruction |  |  | https://www.irs.gov/pub/irs-pdf/i1040sca.pdf. | Instruction |  |  | https://www.irs.gov/pub/irs-pdf/i8824.pdf.
Form and Instruction | Schedule B (Form 1040) | Interest and Ordinary Dividends | https://www.irs.gov/pub/irs-pdf/f1040sb.pdf. | Form and Instruction | Form 8826 | Disabled Access Credit | https://www.irs.gov/pub/irs-pdf/f8826.pdf.
Instruction |  |  | https://www.irs.gov/pub/irs-pdf/i1040sb.pdf. | Form | Form 8828 | Recapture of Federal Mortgage Subsidy | https://www.irs.gov/pub/irs-pdf/f8828.pdf.
Form | Schedule C (Form 1040) | Profit or Loss from Business | https://www.irs.gov/pub/irs-pdf/f1040sc.pdf. | Instruction |  |  | https://www.irs.gov/pub/irs-pdf/i8828.pdf.
Instruction |  |  | https://www.irs.gov/pub/irs-pdf/i1040sc.pdf. | Form | Form 8829 | Expenses for Business Use of Your Home | https://www.irs.gov/pub/irs-pdf/f8829.pdf.
Form | Schedule D (Form 1040) | Capital Gains and Losses | https://www.irs.gov/pub/irs-pdf/f1040sd.pdf. | Instruction |  |  | https://www.irs.gov/pub/irs-pdf/i8829.pdf.
Instruction |  |  | https://www.irs.gov/pub/irs-pdf/i1040sd.pdf. | Form and Instruction | Form 8833 | Treaty-Based Return Position Disclosure Under Section 6114 or 7701(b) | https://www.irs.gov/pub/irs-pdf/f8833.pdf.
Form | Schedule E (Form 1040) | Supplemental Income and Loss | https://www.irs.gov/pub/irs-pdf/f1040se.pdf. | Form | Form 8834 | Qualified Electric Vehicle Credit | https://www.irs.gov/pub/irs-pdf/f8834.pdf.
Instruction |  |  | https://www.irs.gov/pub/irs-pdf/i1040se.pdf. | Form and Instruction | Form 8835 | Renewable Electricity, Refined Coal, and Indian Coal Production Credit | https://www.irs.gov/pub/irs-pdf/f8835.pdf.
Form and Instruction | Schedule EIC (Form 1040) | Earned Income Credit | https://www.irs.gov/pub/irs-pdf/f1040sei.pdf. | Instruction |  |  | https://www.irs.gov/pub/irs-pdf/i8835.pdf.
Form | Schedule EIC (SP) (F. 1040) | Earned Income Credit (Spanish version) | https://www.irs.gov/pub/irs-pdf/f1040sep.pdf. | Form and Instruction | Form 8838 | Consent to Extend the Time to Assess Tax Under Section 367-Gain Recognition Agreement | https://www.irs.gov/pub/irs-pdf/f8838.pdf.
Form | Schedule F (Form 1040) | Profit or Loss from Farming | https://www.irs.gov/pub/irs-pdf/f1040sf.pdf. | Form | Form 8839 | Qualified Adoption Expenses | https://www.irs.gov/pub/irs-pdf/f8839.pdf.
Instruction |  |  | https://www.irs.gov/pub/irs-pdf/i1040sf.pdf. | Instruction |  |  | https://www.irs.gov/pub/irs-pdf/i8839.pdf.
Form | Schedule H (Form 1040) | Household Employment Taxes | https://www.irs.gov/pub/irs-pdf/f1040sh.pdf. | Form and Instruction | Form 8840 | Closer Connection Exception Statement for Aliens | https://www.irs.gov/pub/irs-pdf/f8840.pdf.
Instruction |  |  | https://www.irs.gov/pub/irs-pdf/i1040sh.pdf. | Form and Instruction | Form 8843 | Statement for Exempt Individuals and Individuals with a Medical Condition | https://www.irs.gov/pub/irs-pdf/f8843.pdf.
Form | Schedule J (Form 1040) | Income Averaging for Farmers and Fishermen | https://www.irs.gov/pub/irs-pdf/f1040sj.pdf. | Form and Instruction | Form 8844 | Empowerment Zone and Renewal Community Employment Credit | https://www.irs.gov/pub/irs-pdf/f8844.pdf.
Instruction |  |  | https://www.irs.gov/pub/irs-pdf/i1040sj.pdf. | Instruction |  |  | https://www.irs.gov/pub/irs-pdf/i8844.pdf.
Form | Schedule LEP (Form 1040) | Request for Alternative Language Products by Taxpayers with Limited English Proficiency (LEP) | https://www.irs.gov/pub/irs-pdf/f1040lep.pdf. | Form | Form 8845 | Indian Employment Credit | https://www.irs.gov/pub/irs-pdf/f8845.pdf.
Instruction |  |  | https://www.irs.gov/pub/irs-pdf/i1040lep.pdf. | Instruction |  |  | https://www.irs.gov/pub/irs-pdf/i8845.pdf.
Form | Schedule LEP (SP) (Form 1040(SP)) | Schedule LEP Limited English Proficiency (SP) | https://www.irs.gov/pub/irs-pdf/f1040les.pdf. | Form and Instruction | Form 8846 | Credit for Employer Social Security and Medicare Taxes Paid on Certain Employee Tips | https://www.irs.gov/pub/irs-pdf/f8846.pdf.
Form | Schedule R (Form 1040) | Credit for the Elderly or the Disabled | https://www.irs.gov/pub/irs-pdf/f1040sr.pdf. | Form | Form 8853 | Archer MSAa and Long-Term Care Insurance Contracts | https://www.irs.gov/pub/irs-pdf/f8853.pdf.
Instruction |  |  | https://www.irs.gov/pub/irs-pdf/i1040sr.pdf. | Instruction |  |  | https://www.irs.gov/pub/irs-pdf/i8853.pdf.
Form | Schedule SE (Form 1040) | Self-Employment Tax | https://www.irs.gov/pub/irs-pdf/f1040sse.pdf. | Form | Form 8854 | Initial and Annual Expatriation Information Statement | https://www.irs.gov/pub/irs-pdf/f8854.pdf.
Instruction |  |  | https://www.irs.gov/pub/irs-pdf/i1040sse.pdf. | Instruction |  |  | https://www.irs.gov/pub/irs-pdf/i8854.pdf.
Form and Instruction | Form 1040 V | Payment Voucher | https://www.irs.gov/pub/irs-pdf/f1040v.pdf. | Form | Form 8858 | Information Return of U.S. Persons with Respect to Foreign Disregarded Entities | https://www.irs.gov/pub/irs-pdf/f8858.pdf.
Form and Instruction | Form 1040 ES/OCR | Estimated Tax for Individuals (Optical Character Recognition with Form 1040V) | Form 1040-ES(OCR) contains four estimated tax payment vouchers. Form 1040-ES (OCR) is included in the 2021 Tax Package 1040ES/V mail out | Instruction |  |  | https://www.irs.gov/pub/irs-pdf/i8858.pdf.
Form and Instruction | Form 1040 ES | Estimate Tax for Individuals | https://www.irs.gov/pub/irs-pdf/f1040es.pdf. | Form | Schedule M (Form 8858) | Transactions Between controlled Foreign Disregarded Entity and Filer or Other Related Entities | https://www.irs.gov/pub/irs-pdf/f8858sm.pdf.
Form and Instruction | Form 1040 ES (NR) | U.S. Estimated Tax for Nonresident Alien Individuals | https://www.irs.gov/pub/irs-pdf/f1040esn.pdf. | Form | Form 8859 | District of Columbia First-Time Homebuyer Credit | https://www.irs.gov/pub/irs-pdf/f8859.pdf.
Form and Instruction | Form 1040 ES (PR) | Federales Estimadas del Trabajo por Cuenta Propia y sobre el Impleo de Empleados Domestocs-Puerto Rico | https://www.irs.gov/pub/irs-pdf/f1040esp.pdf. | Form | Form 8862 | Information to Claim Earned Income Credit After Disallowance | https://www.irs.gov/pub/irs-pdf/f8862.pdf.
Form | Schedule 8812 (Form 1040) | Additional Child Tax Credit | https://www.irs.gov/pub/irs-pdf/f1040s8.pdf. | Instruction |  |  | https://www.irs.gov/pub/irs-pdf/i8862.pdf.
Instruction |  | Instructions for Schedule 8812 | https://www.irs.gov/pub/irs-pdf/i1040s8.pdf. | Form | Form 8862(SP) | Information to Claim Earned Income Credit After Disallowance (Spanish Version) | https://www.irs.gov/pub/irs-pdf/f8862sp.pdf.
Form | Schedule 8812(SP) (Form 1040) | Additional Tax Credit (Spanish version) | https://www.irs.gov/pub/irs-pdf/f1040s8s.pdf. | Instruction |  |  | https://www.irs.gov/pub/irs-pdf/i8862sp.pdf.
Instruction |  | Instructions for Schedule 8812 (Spanish version) | https://www.irs.gov/pub/irs-pdf/i1040s8s.pdf. | Form | Form 8863 | Education Credits | https://www.irs.gov/pub/irs-pdf/f8863.pdf.
Form | Form 461 | Limitation on Business Losses | https://www.irs.gov/pub/irs-pdf/f461.pdf. | Instruction |  |  | https://www.irs.gov/pub/irs-pdf/i8863.pdf.
Instruction |  | Instructions for Form 461, Limitation on Business Losses | https://www.irs.gov/pub/irs-pdf/i461.pdf. | Form | Form 8864 | Biodiesel and Renewable Diesel Fuels Credit | https://www.irs.gov/pub/irs-pdf/f8864.pdf.
Form and Instruction | Form 673 | Statement for Claiming Exemption from Withholding on Foreign Earned Income Eligible for the Exclusions Provided by Section 911 | https://www.irs.gov/pub/irs-pdf/f673.pdf. | Instruction |  | Instructions for Form 8864, Biodiesel and Renewable Diesel Fuels Credit | https://www.irs.gov/pub/irs-pdf/i8864.pdf.
Form | Form 926 | Return by a U.S. Transferor of Property to a Foreign Corporation | https://www.irs.gov/pub/irs-pdf/f926.pdf. | Form | Form 8865 | Return of U.S. Persons with Respect to Certain Foreign Partnerships | https://www.irs.gov/pub/irs-pdf/f8865.pdf.
Instruction |  |  | https://www.irs.gov/pub/irs-pdf/i926.pdf. | Form | Schedule K-1 (Form 8865) | Partner's Share of Income Deductions, Credits, etc | https://www.irs.gov/pub/irs-pdf/f8865sk1.pdf.
Form | Form 965-A | Individual Report of Net 965 Tax Liability | https://www.irs.gov/pub/irs-pdf/f965a.pdf. | Form | Schedule K-2 (Form 8865) | Partners' Distributive Share Items—International | https://www.irs.gov/pub/irs-pdf/f8865sk2.pdf.
Instruction | Form 965-A |  | https://www.irs.gov/pub/irs-pdf/i965a.pdf. | Form | Schedule K-3 (Form 8865) | Partner's Share of Income, Deductions, Credits, etc. International | https://www.irs.gov/pub/irs-pdf/f8865sk3.pdf.
Form | Form 965-C | Transfer Agreement Under 965(h)(3) | https://www.irs.gov/pub/irs-pdf/f965c.pdf. | Form | Schedule O (Form 8865) | Transfer of Property to a Foreign Partnership | https://www.irs.gov/pub/irs-pdf/f8865so.pdf.
Instruction |  |  | https://www.irs.gov/pub/irs-pdf/i965c.pdf. | Form | Schedule P (Form 8865) | Acquisitions, Dispositions, and Changes of Interests in a Foreign Partnership | https://www.irs.gov/pub/irs-pdf/f8865sp.pdf.
Form and Instruction | Form 970 | Application to Use LIFO Inventory Method | https://www.irs.gov/pub/irs-pdf/f970.pdf. | Instruction |  |  | https://www.irs.gov/pub/irs-pdf/i8865.pdf.
Form and Instruction | Form 972 | Consent of Shareholder to Include Specific Amount in Gross Income | https://www.irs.gov/pub/irs-pdf/f972.pdf. | Form | Form 8866 | Interest Corporation Under the Look-Back Method for Property Depreciated Under the Income Forecast Method | https://www.irs.gov/pub/irs-pdf/f8866.pdf.
Form | Form 982 | Reduction of Tax Attributes Due to Discharge of Indebtedness (and Section 1082 Basis Adjustment) | https://www.irs.gov/pub/irs-pdf/f982.pdf. | Instruction |  |  | https://www.irs.gov/pub/irs-pdf/i8866.pdf.
Instruction |  |  | https://www.irs.gov/pub/irs-pdf/i982.pdf. |  | Form 8867 | Paid Preparer's Due Diligence Checklist | https://www.irs.gov/pub/irs-pdf/f8867.pdf.
Form | Form 1045 | Application for Tentative Refund | https://www.irs.gov/pub/irs-pdf/f1045.pdf. | Instruction |  |  | https://www.irs.gov/pub/irs-pdf/i8867.pdf.
Instruction |  |  | https://www.irs.gov/pub/irs-pdf/i1045.pdf. | Form | Form 8873 | Extraterritorial Income Exclusion | https://www.irs.gov/pub/irs-pdf/f8873.pdf.
Form | Form 1098-F | Fines, Penalties and Other Amounts | https://www.irs.gov/pub/irs-pdf/f1098f.pdf. | Instruction |  |  | https://www.irs.gov/pub/irs-pdf/i8873.pdf.
Instruction |  | Instructions for Form 1098-F, Fines, Penalties and Other Amounts | https://www.irs.gov/pub/irs-pdf/i1098f.pdf. | Form and Instruction | Form 8874 | New Markets Credit | https://www.irs.gov/pub/irs-pdf/f8874.pdf.
Form | Form 1116 | Foreign Tax Credit | https://www.irs.gov/pub/irs-pdf/f1116.pdf. | Form and Instruction | Form 8878 | IRS e-file Signature Authorization for Form 4686 or Form 2350 | https://www.irs.gov/pub/irs-pdf/f8878.pdf.
Instruction |  |  | https://www.irs.gov/pub/irs-pdf/i1116.pdf. | Form and Instruction | Form 8878 SP | Autorizacion de firma para presentar por medio del IRS e-file para el Formulario 4868 (SP) o el Formulario 2350 (SP) | https://www.irs.gov/pub/irs-pdf/f8878sp.pdf.
Form and Instruction | Form 1127 | Application for Extension of Time for Payment of Tax | https://www.irs.gov/pub/irs-pdf/f1127.pdf. | Form and Instruction | Form 8879 | IRS e-file Signature Authorization | https://www.irs.gov/pub/irs-pdf/f8879.pdf.
Form | Form 1128 | Application to Adopt, Change, or Retain a Tax Year | https://www.irs.gov/pub/irs-pdf/f1128.pdf. | Form and Instruction | Form 8879 SP | Autorizacion de firm para presentar la Declaracion por medio del IRS e-file | https://www.irs.gov/pub/irs-pdf/f8879sp.pdf.
Instruction |  |  | https://www.irs.gov/pub/irs-pdf/i1128.pdf. | Form and Instruction | Form 8880 | Credit for Qualified Retirement Savings Contributions | https://www.irs.gov/pub/irs-pdf/f8880.pdf.
Form and Instruction | Form 1310 | Statement of Person Claiming Refund Due to a Deceased Taxpayer | https://www.irs.gov/pub/irs-pdf/f1310.pdf. | Form | Form 8881 | Credit for Small Employer Pensions Plan Startup Costs | https://www.irs.gov/pub/irs-pdf/f8881.pdf.
Form | Form 2106 | Employee Business Expenses | https://www.irs.gov/pub/irs-pdf/f2106.pdf. | Instruction |  |  | https://www.irs.gov/pub/irs-pdf/i8881.pdf.
Instruction |  |  | https://www.irs.gov/pub/irs-pdf/i2106.pdf. | Form and Instruction | Form 8882 | Credit for Employer-Provided Childcare Facilities and Services | https://www.irs.gov/pub/irs-pdf/f8882.pdf.
Form and Instruction | Form 2120 | Multiple Support Declaration | https://www.irs.gov/pub/irs-pdf/f2120.pdf. | Form | Form 8886 | Reportable Transaction Disclosure Statement | https://www.irs.gov/pub/irs-pdf/f8886.pdf.
Form | Form 2210 | Underpayment of Estimated Tax by Individuals, Estates, and Trusts | https://www.irs.gov/pub/irs-pdf/f2210.pdf. | Instruction |  |  | https://www.irs.gov/pub/irs-pdf/i8886.pdf.
Instruction |  |  | https://www.irs.gov/pub/irs-pdf/i2210.pdf. | Form and Instruction | Form 8888 | Direct Deposit of Refund to More than One Account | https://www.irs.gov/pub/irs-pdf/f8888.pdf.
Form | Form 2210-F | Underpayment of Estimated Tax by Farmers and Fishermen | https://www.irs.gov/pub/irs-pdf/f2210f.pdf. | Form | Form 8889 | Health Savings Accounts (HSAs) | https://www.irs.gov/pub/irs-pdf/f8889.pdf.
Instruction |  |  | https://www.irs.gov/pub/irs-pdf/i2210f.pdf. | Instruction |  |  | https://www.irs.gov/pub/irs-pdf/i8889.pdf.
Form and Instruction | Form 2350 | Application for Extension of Time to File U.S. Income Tax Return | https://www.irs.gov/pub/irs-pdf/f2350.pdf. | Form and Instruction | Form 8896 | Low Sulfur Diesel Fuel Production Credit | https://www.irs.gov/pub/irs-pdf/f8896.pdf.
Form and Instruction | Form 2350 SP | Solicitud de Prorroga para Presentar la Declaracion del Impuesto Personal sobre el Ingreso de lose Estados Unidos | https://www.irs.gov/pub/irs-pdf/f2350sp.pdf. | Form | Form 8898 | Statement for Individuals Who Begin or End Bona Fide Residence in a U.S. Possession | https://www.irs.gov/pub/irs-pdf/f8898.pdf.
Form | Form 2441 | Child and Dependent Care Expenses | https://www.irs.gov/pub/irs-pdf/f2441.pdf. | Instruction |  |  | https://www.irs.gov/pub/irs-pdf/i8898.pdf.
Instruction |  |  | https://www.irs.gov/pub/irs-pdf/i2441.pdf. | Form | Form 8900 | Qualified Railroad Track Maintenance Credit | https://www.irs.gov/pub/irs-pdf/f8900.pdf.
Form | Form 2555 | Foreign Earned Income | https://www.irs.gov/pub/irs-pdf/f2555.pdf. | Instruction |  |  | https://www.irs.gov/pub/irs-pdf/i8900.pdf.
Instruction |  |  | https://www.irs.gov/pub/irs-pdf/i2555.pdf. | Form | Form 8903 | Domestic Production Activities Deduction | https://www.irs.gov/pub/irs-pdf/f8903.pdf.
Form | Form 3115 | Application for Change in Accounting Method | https://www.irs.gov/pub/irs-pdf/f3115.pdf. | Instruction |  |  | https://www.irs.gov/pub/irs-pdf/i8903.pdf.
Instruction |  |  | https://www.irs.gov/pub/irs-pdf/i3115.pdf. | Form and Instruction | Form 8906 | Distills Spirits Credit | https://www.irs.gov/pub/irs-pdf/f8906.pdf.
Form | Form 3468 | Investment Credit | https://www.irs.gov/pub/irs-pdf/f3468.pdf. | Form | Form 8908 | Energy Efficient Home Credit | https://www.irs.gov/pub/irs-pdf/f8908.pdf.
Instruction |  |  | https://www.irs.gov/pub/irs-pdf/i3468.pdf. | Instruction |  |  | https://www.irs.gov/pub/irs-pdf/i8908.pdf.
Form | Form 3520 | Annual Return to Report Transactions with Foreign Trusts and Receipt of Certain Foreign Gifts | https://www.irs.gov/pub/irs-pdf/f3520.pdf. | Form | Form 8910 | Alternative Motor Vehicle Credit | https://www.irs.gov/pub/irs-pdf/f8910.pdf.
Instruction |  |  | https://www.irs.gov/pub/irs-pdf/i3520.pdf. | Instruction |  |  | https://www.irs.gov/pub/irs-pdf/i8910.pdf.
Form | Form 3800 | General Business Credit | https://www.irs.gov/pub/irs-pdf/f3800.pdf. | Form | Form 8911 | Alternative Fuel Vehicle Refueling Property Credit | https://www.irs.gov/pub/irs-pdf/f8911.pdf.
Instruction |  |  | https://www.irs.gov/pub/irs-pdf/i3800.pdf. | Instruction |  |  | https://www.irs.gov/pub/irs-pdf/i8911.pdf.
Form | Form 3903 | Moving Expenses | https://www.irs.gov/pub/irs-pdf/f3903.pdf. | Form | Form 8912 | Credit to Holders of Tax Credit Bonds | https://www.irs.gov/pub/irs-pdf/f8912.pdf.
Instruction |  |  | https://www.irs.gov/pub/irs-pdf/i3903.pdf. | Instruction |  |  | https://www.irs.gov/pub/irs-pdf/i8912.pdf.
Form | Form 4070 | Employee's Report of Tips to Employer | https://www.irs.gov/pub/irs-pdf/p1244.pdf. | Form | Form 8915-C | Qualified 2018 Disaster Retirement Plan Distributions and Repayments | https://www.irs.gov/pub/irs-pdf/f8915c.pdf.
Form | Form 4070A | Employee's Daily Record of Tips | https://www.irs.gov/pub/irs-pdf/p1244.pdf. | Instruction |  | Instructions for Form 8915-C, Qualified 2018 Disaster Retirement Plan Distributions and Repayments | https://www.irs.gov/pub/irs-pdf/i8915c.pdf.
Form | Form 4136 | Credit for Federal Tax Paid on Fuels | https://www.irs.gov/pub/irs-pdf/f4136.pdf. | Form | 8915-D | Qualified 2019 Disaster Retirement Plan Distributions and Repayments | https://www.irs.gov/pub/irs-pdf/f8915d.pdf.
Instruction |  |  | https://www.irs.gov/pub/irs-pdf/i4136.pdf. | Instruction |  | Instructions for 8915-D Qualified 2019 Disaster Retirement Plan Distributions and Repayments | https://www.irs.gov/pub/irs-pdf/i8915d.pdf.
Form and Instruction | Form 4137 | Social Security and Medicare Tax on Underreported Tip Income | https://www.irs.gov/pub/irs-pdf/f4137.pdf. | Form | Form 8915-F | Qualified Disaster Retirement Plan—Distributions and Repayments | https://www.irs.gov/pub/irs-pdf/f8915f.pdf.
Form | Form 4255 | Recapture of Investment Credit | https://www.irs.gov/pub/irs-pdf/f4255.pdf. | Instruction |  |  | https://www.irs.gov/pub/irs-pdf/i8915f.pdf.
Instruction |  |  | https://www.irs.gov/pub/irs-pdf/i4255.pdf. | Form and Instruction | Form 8919 | Uncollected Social Security and Medicare Tax on Wages | https://www.irs.gov/pub/irs-pdf/f8919.pdf.
Form and Instruction | Form 4361 | Application for Exemption from Self-Employment Tax for Use by Ministers, Members of Religious Orders, and Christian Science Practitioners | https://www.irs.gov/pub/irs-pdf/f4361.pdf. | Form | Form 8925 | Report of Employer-Owned Life Insurance Contracts | https://www.irs.gov/pub/irs-pdf/f8925.pdf.
Form | Form 4562 | Depreciation and Amortization | https://www.irs.gov/pub/irs-pdf/f4562.pdf. | Form and Instruction | Form 8932 | Credit for Employer Differential Wage Payments | https://www.irs.gov/pub/irs-pdf/f8932.pdf.
Instruction |  |  | https://www.irs.gov/pub/irs-pdf/i4562.pdf. | Form | Form 8933 | Carbon Dioxide Sequestration Credit | https://www.irs.gov/pub/irs-pdf/f8933.pdf.
Form and Instruction | Form 4563 | Exclusion of Income for Bona Fide Residents of American Samoa | https://www.irs.gov/pub/irs-pdf/f4563.pdf. | Instruction |  |  | https://www.irs.gov/pub/irs-pdf/i8933.pdf.
Form | Form 4684 | Causalities and Thefts | https://www.irs.gov/pub/irs-pdf/f4684.pdf. | Form and Instruction | Form 8936 | Qualified Plug-In Electric Drive Motor Vehicle Credit | https://www.irs.gov/pub/irs-pdf/f8936.pdf.
Instruction |  |  | https://www.irs.gov/pub/irs-pdf/i4684.pdf. | Instruction |  |  | https://www.irs.gov/pub/irs-pdf/i8936.pdf.
Form | Form 4797 | Sale of Business Property | https://www.irs.gov/pub/irs-pdf/f4797.pdf. | Form | Form 8941 | Credit for Small Employer Health Insurance Premiums | https://www.irs.gov/pub/irs-pdf/f8941.pdf.
Instruction |  |  | https://www.irs.gov/pub/irs-pdf/i4797.pdf. | Instruction |  |  | https://www.irs.gov/pub/irs-pdf/i8941.pdf.
Form and Instruction | Form 4835 | Farm Rental Income and Expenses | https://www.irs.gov/pub/irs-pdf/f4835.pdf. | Form | Form 8949 | Sales and other Dispositions of Capital Assets | https://www.irs.gov/pub/irs-pdf/f8949.pdf.
Form and Instruction | Form 4852 | Substitute for Form W-2, Wage and Tax Statement or Form 1099-R, Distributions from Pension Annuities, Retirement or Profit-Sharing Plans, IRAs, Insurance Contracts, etc | https://www.irs.gov/pub/irs-pdf/f4852.pdf. | Instruction |  |  | https://www.irs.gov/pub/irs-pdf/i8949.pdf.
Form and Instruction | Form 4852(SP) | Substitute for Form W-2, Wage and Tax Statement or Form 1099-R, Distributions from Pension Annuities, Retirement or Profit-Sharing Plans, IRAs, Insurance Contracts, etc. (Spanish Version) | Still under development at the time of release of this notice | Form | Form 8958 | Allocation of Tax Amounts Between Certain Individuals in Community Property States | https://www.irs.gov/pub/irs-pdf/f8958.pdf.
Form and Instruction | Form 4868 | Application for Automatic Extension of Time to File Individual U.S. Income Tax Return | https://www.irs.gov/pub/irs-pdf/f4868.pdf. | Form | Form 8962 | Premium Tax Credit | https://www.irs.gov/pub/irs-pdf/f8962.pdf.
Form and Instruction | Form 4868 SP | Solicitud de Prorroga Automatica para Presentar la Declaracion del Impuesto sobre el Ingreso Personal de los Estados Unidos | https://www.irs.gov/pub/irs-pdf/f4868sp.pdf. | Instruction |  |  | https://www.irs.gov/pub/irs-pdf/i8962.pdf.
Form and Instruction | Form 4952 | Investment Interest Expense Deduction | https://www.irs.gov/pub/irs-pdf/f4952.pdf. | Form | 8993 | Section 250 Deduction for Foreign-Derived Intangible Income (FDII) and Global Intangible Low-Taxed Income (GILTI) | https://www.irs.gov/pub/irs-pdf/f8993.pdf.
Form and Instruction | Form 4970 | Tax on Accumulation Distribution of Trusts | https://www.irs.gov/pub/irs-pdf/f4970.pdf. | Instruction |  |  | https://www.irs.gov/pub/irs-pdf/i8993.pdf.
Form and Instruction | Form 4972 | Tax on Lump-Sum Distributions | https://www.irs.gov/pub/irs-pdf/f4972.pdf. | Form | Form 8994 | Employer Credit for Paid Family and Medical Leave | https://www.irs.gov/pub/irs-pdf/f8994.pdf.
Form and Instruction | Form 5074 | Allocation of Individual Income Tax to Guam or the Commonwealth of the Northern Mariana Islands (CNMI) | https://www.irs.gov/pub/irs-pdf/f5074.pdf. | Instruction |  |  | https://www.irs.gov/pub/irs-pdf/i8994.pdf.
Form and Instruction | Form 5213 | Election to Postpone Determination as to Whether the Presumption Applies that an Activity is Engaged in for Profit | https://www.irs.gov/pub/irs-pdf/f5213.pdf. | Form | Form 8995 | Qualified Business Income Deduction Simplified Computation | https://www.irs.gov/pub/irs-pdf/f8995.pdf.
Form | Form 5329 | Additional Taxes on Qualified Plans (Including IRAs) and Other Tax-Favored Accounts | https://www.irs.gov/pub/irs-pdf/f5329.pdf. | Instruction |  |  | https://www.irs.gov/pub/irs-pdf/i8995.pdf.
Instruction |  |  | https://www.irs.gov/pub/irs-pdf/i5329.pdf. | Form | Form 8995-A | Qualified Business Income Deduction | https://www.irs.gov/pub/irs-pdf/f8995a.pdf.
Form | Form 5405 | First-Time Homebuyer Credit | https://www.irs.gov/pub/irs-pdf/f5405.pdf. | Form | Schedule A (Form 8995-A) | Specified Service Trades or Businesses | https://www.irs.gov/pub/irs-pdf/f8995aa.pdf.
Instruction |  |  | https://www.irs.gov/pub/irs-pdf/i5405.pdf. | Form | Schedule B (Form 8995-A) | Aggregation of Business Operations | https://www.irs.gov/pub/irs-pdf/f8995ab.pdf.
Form | Form 5471 | Information Return of U.S. Persons with Respect to Certain Foreign Corporations | https://www.irs.gov/pub/irs-pdf/f5471.pdf. | Form | Schedule C (Form 8995-A) | Loss Netting And Carryforward | https://www.irs.gov/pub/irs-pdf/f8995ac.pdf.
Form | Schedule J (Form 5471) | Accumulated Earnings and Profits (E&P) and Taxes of Controlled Foreign Corporations | https://www.irs.gov/pub/irs-pdf/f5471sj.pdf. | Form | Schedule D (Form 8995-A) | Special Rules for Patrons of Agricultural or Horticultural Cooperatives | https://www.irs.gov/pub/irs-pdf/f8995ad.pdf.
Form | Schedule M (Form 5471) | Transactions Between Controlled Foreign Corporation and Shareholders or Other Related Persons | https://www.irs.gov/pub/irs-pdf/f5471sm.pdf. | Instruction |  |  | https://www.irs.gov/pub/irs-pdf/i8995a.pdf.
Form | Schedule O (Form 5471) | Organization or Reorganization of Foreign Corporation, and Acquisitions and Dispositions of its Stock | https://www.irs.gov/pub/irs-pdf/f5471so.pdf. | Form | 9000 | Alternative Media Preference | https://www.irs.gov/pub/irs-pdf/f9000.pdf.
Instruction |  |  | https://www.irs.gov/pub/irs-pdf/i5471.pdf. | Form | 9000(SP) | Alternative Media Preference (Spanish Version) | https://www.irs.gov/pub/irs-pdf/f9000sp.pdf.
Form | Form 5695 | Residential Energy Credits | https://www.irs.gov/pub/irs-pdf/f5695.pdf. | Form and Instruction | Form 9465 | Installment Agreement Request | https://www.irs.gov/pub/irs-pdf/f9465.pdf.
Instruction |  |  | https://www.irs.gov/pub/irs-pdf/i5695.pdf. | Instruction |  |  | https://www.irs.gov/pub/irs-pdf/i9465.pdf.
Form | Form 5713 | International Boycott Report | https://www.irs.gov/pub/irs-pdf/f5713.pdf. | Form and Instruction | Form 9465 SP | Solicitud para un Plan de Pagos a Plazos | https://www.irs.gov/pub/irs-pdf/f9465sp.pdf.
Form | Schedule A (Form 5713) | International Boycott Factor (Section 999(c)(1)) | https://www.irs.gov/pub/irs-pdf/f5713sa.pdf. | Instruction |  |  | https://www.irs.gov/pub/irs-pdf/i9465sp.pdf.
Form | Schedule B (Form 5713) | Specifically Attributable Taxes and Income (Section 999(c)(2)) | https://www.irs.gov/pub/irs-pdf/f5713sb.pdf. | Form | Form T (Timber) | Forest Activities Schedules | https://www.irs.gov/pub/irs-pdf/ft.pdf.
Form | Schedule C (Form 5713) | Tax Effect of the International Boycott Provisions | https://www.irs.gov/pub/irs-pdf/f5713sc.pdf. | Instruction |  |  | https://www.irs.gov/pub/irs-pdf/it.pdf.
Instruction |  |  | https://www.irs.gov/pub/irs-pdf/i5713.pdf. | Form and Instruction | Form W-4 | Employee's Withholding Allowance Certificate | https://www.irs.gov/pub/irs-pdf/fw4.pdf.
Form | Form 5884 | Work Opportunity Cost | https://www.irs.gov/pub/irs-pdf/f5884.pdf. | Form and Instruction | Form W-4 (SP) | Certificado de Exencion de la Retencion del Empleado | https://www.irs.gov/pub/irs-pdf/fw4sp.pdf.
Instruction |  |  | https://www.irs.gov/pub/irs-pdf/i5884.pdf. | Form and Instruction | Form W-4 (KO) | Employee's Withholding Allowance Certificate (Korean Version) | https://www.irs.gov/pub/irs-pdf/fw4ko.pdf.
Form | Form 5884-A | Credits for Affected Disaster Area Employees | https://www.irs.gov/pub/irs-pdf/f5884a.pdf. | Form and Instruction | Form W-4 (RU) | Employee's Withholding Allowance Certificate (Russian Version) | https://www.irs.gov/pub/irs-pdf/fw4ru.pdf.
| Instruction (F5884A) |  | https://www.irs.gov/pub/irs-pdf/i5884a.pdf. | Form and Instructio | Form W-4 (VIE) | Employee's Withholding Allowance Certificate (Vietnamese Version) | https://www.irs.gov/pub/irs-pdf/fw4vie.pdf.
Form | Form 6198 | At-Risk Limitations | https://www.irs.gov/pub/irs-pdf/f6198.pdf. | Form and Instruction | Form W-4 (ZH-S) | Employee's Withholding Allowance Certificate (Chinese—Simple Version) | https://www.irs.gov/pub/irs-pdf/fw4zhs.pdf.
Instruction |  |  | https://www.irs.gov/pub/irs-pdf/i6198.pdf. | Form and Instruction | Form W-4 (ZH-T) | Employee's Withholding Allowance Certificate (Chinese—Traditional Version) | https://www.irs.gov/pub/irs-pdf/fw4zht.pdf.
Form | Form 6251 | Alternative Minimum Tax—Individuals | https://www.irs.gov/pub/irs-pdf/f6251.pdf. | Form and Instruction | Form W-4 P | Withholding Certificate for Pension or Annuity Payments | https://www.irs.gov/pub/irs-pdf/fw4p.pdf.
Instruction | Form 6251 |  | https://www.irs.gov/pub/irs-pdf/i6251.pdf. | Form and Instruction | Form W-4 S | Request for Federal Income Tax Withholding from Sick Pay | https://www.irs.gov/pub/irs-pdf/fw4s.pdf.
Form and Instruction | Form 6252 | Installment Sale Income | https://www.irs.gov/pub/irs-pdf/f6252.pdf. | Form and Instruction | Form W-4 V | Voluntary Withholding Request | https://www.irs.gov/pub/irs-pdf/fw4v.pdf.
Form | Form 6478 | Biofuel Producer Credit | https://www.irs.gov/pub/irs-pdf/f6478.pdf. | Form and Instruction | Form W-4 R | Withholding Certificate for Retirement Payments Other Than Pensions or Annuities | https://www.irs.gov/pub/irs-pdf/fw4r.pdf.
Instruction |  |  | https://www.irs.gov/pub/irs-pdf/i6478.pdf. | Form and Instruction | Form W-7 | Application for IRS Individual Taxpayer Identification Number | https://www.irs.gov/pub/irs-pdf/fw7.pdf.
Form | Form 6765 | Credit for Increasing Research Activities | https://www.irs.gov/pub/irs-pdf/f6765.pdf. | Instruction |  |  | https://www.irs.gov/pub/irs-pdf/iw7.pdf.
Instruction |  |  | https://www.irs.gov/pub/irs-pdf/i6765.pdf. | Form | Form W-7 A | Application for Taxpayer Identification Number for Pending U.S. Adoptions | https://www.irs.gov/pub/irs-pdf/fw7a.pdf.
Form and Instruction | Form 6781 | Gains and Losses from Section 1256 Contracts and Straddles | https://www.irs.gov/pub/irs-pdf/f6781.pdf. | Instruction |  |  | https://www.irs.gov/pub/irs-pdf/iw7a.pdf.
Form | Form 7203 | S Corporation Shareholder Stock and Debt Basis Limitations | https://www.irs.gov/pub/irs-pdf/f7203.pdf. | Form and Instruction | Form W-7 (SP) | Solicitud de Numero de Indenticacion Personal del Contribuyente del Servico de Impuestos Internos | https://www.irs.gov/pub/irs-pdf/fw7sp.pdf.
Instruction |  |  | https://www.irs.gov/pub/irs-pdf/i7203.pdf. | Instruction |  |  | https://www.irs.gov/pub/irs-pdf/iw7sp.pdf.
Form | Form 7204 | Consent to Extend the Time to Assess Tax Related to Contested Foreign Income Taxes—Provisional Foreign Tax Credit Agreement | Still under development at the time of release of this notice. | Form | Form W-7 (COA) | Certificate of Accuracy for IRS Individual Taxpayer Identification Number | https://www.irs.gov/pub/irs-pdf/fw7coa.pdf.
Instruction |  |  | Still under development at the time of release of this notice | Other: Notice 2006-52 |  |  | https://www.irs.gov/pub/irs-irbs/irb06-26.pdf.
Form | Form 8082 | Notice of Inconsistent Treatment or Administrative Adjustment Request (AAR) | https://www.irs.gov/pub/irs-pdf/f8082.pdf. | Other: Notice 2008-40 |  |  | https://www.irs.gov/pub/irs-irbs/irb08-14.pdf.
Instruction |  |  | https://www.irs.gov/pub/irs-pdf/i8082.pdf. | Other: Publication 972 Tables |  |  | https://www.irs.gov/pub/irs-pdf/p972.pdf.
Form | Form 8275 | Disclosure Statement | https://www.irs.gov/pub/irs-pdf/f8275.pdf. | Other: TD 9408 |  |  | https://www.irs.gov/pub/irs-irbs/irb08-33.pdf.
Instruction |  |  | https://www.irs.gov/pub/irs-pdf/i8275.pdf. | Other: Rev. Proc. 2004-12 |  |  | https://www.irs.gov/pub/irs-irbs/irb04-09.pdf.
Form | Form 8275-R | Regulation Disclosure Statement | https://www.irs.gov/pub/irs-pdf/f8275r.pdf. |  |  |  |
Instruction |  |  | https://www.irs.gov/pub/irs-pdf/i8275r.pdf. | Other: TD 9902 |  |  | https://www.govinfo.gov/content/pkg/FR-2020-07-23/pdf/2020-15351.pdf?utm_medium=email&utm_campaign=subscription+mailing+list&A1utm_source=federalregister.gov.
Form | Form 8283 | Noncash Charitable Contributions | https://www.irs.gov/pub/irs-pdf/f8283.pdf. | Other: TD 9920 |  |  | https://www.govinfo.gov/content/pkg/FR-2020-10-01/pdf/2020-21777.pdf.
Instruction |  |  | https://www.irs.gov/pub/irs-pdf/i8283.pdf. | Other: TD 9924 |  |  | https://www.govinfo.gov/content/pkg/FR-2020-10-06/pdf/2020-22071.pdf.
Form and Instruction | Form 8332 | Release of Claim to Exemption for Child of Divorced or Separated Parents | https://www.irs.gov/pub/irs-pdf/f8332.pdf. | Other: TD 9959 |  |  | https://www.govinfo.gov/content/pkg/FR-2022-01-04/pdf/2021-27887.pdf.
Form and Instruction | Form 8379 | Injured Spouse Claim and Allocation | https://www.irs.gov/pub/irs-pdf/f8379.pdf. |  |  |  |
Instruction |  |  | https://www.irs.gov/pub/irs-pdf/i8379.pdf. |  |  |  |

[FR Doc. 2022-20960 Filed 9-27-22; 8:45 am]

BILLING CODE 4830-01-P